DEPARTMENT OF INTERIOR

Bureau of Land Management

[UT-060-1610-DU]

Notice of Intent

AGENCY: Bureau of Land Management.

ACTION: Notice of Intent to prepare two Environmental Assessments (EAs) and consider amending the Grand Resource Area Resource Management Plan (RMP); Moab, Utah.

SUMMARY: Pursuant to the Bureau of Land Management (BLM) Planning Regulations (43 CFR 1600) this notice advises the public that the Utah Bureau of Land Management (BLM), Moab Field Office, is considering amending an existing planning document. The BLM will prepare two Environmental Assessments (EAs) to consider amending the 1985 Grand Resource Area RMP. Off Highway Vehicle (OHV) categories in the Utah Rims and Cameo Cliffs areas will be re-evaluated to create potential opportunities for sustainable motorized recreation. In addition, mountain bike travel will be addressed. This action is being considered in response to recent and anticipated increases in visitor use.

DATES: The comment period for this proposed plan amendment will commence with publication of this notice. For 30 days from the date of publication of this notice in the Federal Register, the BLM will accept comments on this potential action. There will also be an opportunity for public comment during the planning process.

ADDRESSES: Comments should be sent to the BLM Moab Field Office, 82 East Dogwood Avenue, Moab, Utah 84532. Comments, including names and street addresses of respondents, will be available for public review at the Utah BLM Moab Field Office and will be subject to disclosure under the Freedom of Information Act (FOIA). They may be published as part of the EA and other related documents. Individual respondents may request confidentiality. If you wish to withhold your name or street address from public review and disclosure under the FOIA, you must state this prominently at the beginning of your written comment. Such requests will be honored to the extent allowed by law. All submissions from organizations or businesses will be made available for public inspection in their entirety.

FOR FURTHER INFORMATION CONTACT: Katie Stevens (Cameo Cliffs) or Chad Niehaus (Utah Rims) at the above address or telephone (435) 259-2100. Existing planning documents and information are also available at the Moab Field Office.

SUPPLEMENTARY INFORMATION: After interdisciplinary review, no specific planning criteria were determined necessary for this proposed plan amendment. OHV designations and mountain bike travel have been identified as the preliminary issues for the proposed plan amendments, representing the BLM's knowledge to date on the existing issues and concerns with current management.

Utah Rims is a 15,337 acre area located in Grand County, Utah just west of Rabbit Valley (the motorized portion of Colorado Canyons National Conservation Area) between the Colorado River and Interstate 70. The 1985 Grand RMP divided the Utah Rims Recreation Area into two OHV designations. The central portion of Utah Rims (2,560 acres) was “limited to existing roads and trails” to reduce saline soil discharge into the Colorado River, while the remainder (12,771 acres) was placed in the “open” category.

On January 22, 200l, 5,756 of these open acres were designated as “limited to existing roads and trails for motorized and mechanized use” on an interim basis through a Federal Register notice to facilitate management of increased recreational use.

The Cameo Cliffs area is located in San Juan County, Utah, south of Moab along the east side of U.S. Highway 191 between Utah State Route 46 and San Juan County Road 114 and includes the Casa Colorado Rock area. The 1985 Grand RMP designated the entire Cameo Cliffs area (24,666 acres) as “open.”

As a result of the proposed action, existing OHV designations and mountain bike management could change for both Utah Rims and Cameo Cliffs Recreation Areas.

Dated: November 22, 2002.
Sally Wisely,
State Director, Utah.

[FR Doc. 02-30498 Filed 12-2-02; 8:45 am]

BILLING CODE 3410-$$-P